DEPARTMENT OF THE TREASURY

Submission for OMB Review; Comment Request

March 25, 2013.

The Department of the Treasury will submit the following information collection request to the Office of Management and Budget (OMB) for review and clearance in accordance with the Paperwork Reduction Act of 1995, Public Law 104-13, on or after the date of publication of this notice.

DATES: Comments should be received on or before April 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Office of Fiscal Assistant Secretary

OMB Number: 1505-0221.

Type of Review: Revision of a currently approved collection.

Title: Annual Performance Report and Certification for Section 1603: Payments for Specified Renewable Energy Property in Lieu of Tax Credits.

Abstract: Authorized under the American Recovery and Reinvestment Act (ARRA), of 2009 (Pub. L. 111-5), the Department of the Treasury is implementing several provisions of the Act, more specifically Division B—Tax, Unemployment, Health, State Fiscal Relief, and Other Provisions. Among these components is a program which requires Treasury, in lieu of a tax credit, to reimburse persons who place in service certain specified energy properties. The collection of information is necessary to properly monitor compliance with program requirements. Applicants for Section 1603 payments commit in the Terms and Conditions that are part of the application to submitting an annual report for five years from the date the energy property is placed in service. The information will be used to (1) Determine whether payment recipients remain eligible, (2) determine that the amount of the 1603 payment remains allowable under applicable laws, (3) assess compliance with applicable laws, and (4) report on the effectiveness of the program.

Affected Public: State, Local, and Tribal Governments.

Estimated Total Burden Hours: 37,500.

Dawn D. Wolfgang,
Treasury PRA Clearance Officer.

[FR Doc. 2013-07164 Filed 3-27-13; 8:45 am]

BILLING CODE 4810-25-P